Proclamation 10191 of April 30, 2021

National Building Safety Month, 2021

By the President of the United States of America

A Proclamation

Throughout this past year, we have come to appreciate the contributions and complexity of our building and built environment. During the COVID-19 pandemic, many people saw their homes become more than a place of dwelling, evolving into a comprehensive space for education, work, childcare, and entertainment. During National Building Safety Month, we recognize the importance of strengthening our buildings and infrastructure to serve the needs and ensure the safety of every American. We also honor the building safety professionals dedicated to creating safe, sustainable, and resilient communities.

We also recognize that now is the time to repair and modernize our buildings and infrastructure, not only to meet the needs of today, but to address the challenges of tomorrow, especially the existential threat of climate change. The unrelenting impact of climate change affects every one of us, but too often the brunt falls disproportionately on vulnerable communities—especially low-income communities and people of color—who are facing new and worsening natural hazards like hurricanes, floods, extreme heat, and wildfires due to climate change. These communities are less likely to have the means to prepare for and recover from these hazards, which have increased in frequency, duration, and intensity. The buildings where we live and work provide an important line of defense against these growing hazards. Investing in our infrastructure and adopting and implementing modern building codes are the most effective mitigation measures communities can undertake.

This is why I have issued several Executive Orders related to buildings and resiliency as part of a Government-wide approach to the climate emergency. My Administration has also put the climate crisis at the center of U.S. foreign and national security policy, and established the White House Office of Domestic Climate Policy and the National Climate Task Force. We are committed to creating climate-friendly and environmentally conscious communities that not only protect the people who live and work in them, but also will boost our economy in the long-term.

In order for us to safeguard the health, safety, and economic future of our Nation's people, we must also invest in our infrastructure more broadly. From upgrading homes in disadvantaged communities, to modernizing our Nation's schools, to replacing lead water pipes, to securing affordable, high-speed broadband, the American Jobs Plan is an investment for all Americans. It will create millions of good jobs, rebuild our crumbling infrastructure, and promote access to opportunity for all.

To support these efforts, my Administration is also calling for broad input and collaboration from all levels of government and our partners in the non-profit and private sectors. We must all share the responsibility for ensuring that our communities are safe and resilient against the growing threat of climate change. In America and around the globe, initiatives such as the Global Resiliency Dialogue aim to increase building and climate-based science into the solution. This important work is underway, but we recognize that there is much more to do.

NOW, THEREFORE, I, JOSEPH R. BIDEN JR., President of the United States of America, by virtue of the authority vested in me by the Constitution and the laws of the United States, do hereby proclaim May 2021 as National Building Safety Month. I encourage citizens, government agencies, businesses, nonprofits, and other interested groups to join in activities that raise awareness about building safety. I also call on all Americans to learn more about how they can contribute to building safety at home and in their communities.

IN WITNESS WHEREOF, I have hereunto set my hand this thirtieth day of April, in the year of our Lord two thousand twenty-one, and of the Independence of the United States of America the two hundred and forty-fifth.

[FR Doc. 2021-09572

Filed 5-4-21; 8:45 am]

Billing code 3295-F1-P